DEPARTMENT OF THE INTERIOR

National Park Service

[NPS-WASO-NRNHL-DTS#-25581; PPWOCRADI0, PCU00RP14.R50000]

National Register of Historic Places; Notification of Pending Nominations and Related Actions

AGENCY: National Park Service, Interior.

ACTION: Notice.

SUMMARY: The National Park Service is soliciting comments on the significance of properties nominated before May 5, 2018, for listing or related actions in the National Register of Historic Places.

DATES: Comments should be submitted by June 8, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before May 5, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

IDAHO

Nez Perce County

Carnegie Library, 101 5th St., Lewiston, SG100002548

OHIO

Champaign County

Urbana Country Club, 4761 E US 36, Urbana, SG100002550

Cuyahoga County

Spang, J., Baking Company, 2707 Barber Ave., Cleveland, SG100002551

Franklin County

Godman, H.C., Co. Building, 35 N 34th St., Columbus, SG100002552

Stark County

Massillon Downtown Historic District, Roughly bounded by 1st & 3rd Sts., Tremont & Federal Aves., Massillon, SG100002553

WISCONSIN

Vilas County

Voss' Birchwood Lodge, 5500-5518 USH 51, 5534-5537 Henry Voss, 12958-12994 Ruth Voss & 12930-12954, Palmer Lns., Manitowish Waters, SG100002554

A request for removal has been made for the following resource(s):

IOWA

Woodbury County

Florence Crittenton Home and Maternity Hospital, 1105-1111 28th St., Sioux City, OT00000306

Nomination(s) submitted by Federal Preservation Officers:

The State Historic Preservation Officer reviewed the following nomination and responded to the Federal Preservation Officer within 45 days of receipt of the nomination and supports listing the property in the National Register of Historic Places.

NEW MEXICO

Lincoln County

Mesa Ranger Station Barn, NF Rd. 131/Ranger Rd., Lincoln NF, Nogal vicinity, SG100002562

The following nominations are not located in state waters and therefore not subject to review by the State Historic Preservation Officer:

LOUISIANA

Iberia Parish

M.V. SHEHERAZADE (shipwreck and remains), Address Restricted, Morgan City vicinity, MP100002555

Plaquemines Parish

S.S. GULFOIL (shipwreck and remains), Address Restricted, Pilottown vicinity, MP100002556

S.S. GULFPENN (shipwreck and remains), Address Restricted, Pilottown vicinity, MP100002557

S.S. ROBERT E. LEE and U-166 (shipwrecks and remains), Address Restricted, Pilotttown vicinity, MP100002558

S.S. VIRGINIA (shipwreck and remains), Address Restricted, Pilottown vicinity, MP100002559

S.S. ALCOA PURITAN (shipwreck and remains), Address Restricted, Pilottown vicinity, MP100002560

Terrebonne Parish

S.S. R.M. PARKER JR. (shipwreck and remains), Address Restricted, Cocodrie vicinity, MP100002561

Authority: Section 60.13 of 36 CFR part 60.

Dated: May 10, 2018.
Christopher Hetzel,
Acting Chief, National Register of Historic Places/National Historic Landmarks Program.

[FR Doc. 2018-11104 Filed 5-23-18; 8:45 am]

BILLING CODE 4312-52-P